DEPARTMENT OF JUSTICE

Antitrust Division

Notice Pursuant to the National Cooperative Research and Production Act of 1993—Healthcare Standards Institute Foundation

Notice is hereby given that, on January 6, 2023, pursuant to Section 6(a) of the National Cooperative Research and Production Act of 1993, 15 U.S.C. 4301 et seq. (“the Act”), Healthcare Standards Institute Foundation (“HSI Foundation”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Healthcare Standards Institute Foundation, Grapevine, TX. The nature and scope of HSI Foundation's standards development activities are: the creation of a healthcare quality management system standard that clearly and specifically addresses patient safety, quality of care, accessibility, affordability and equity.

Suzanne Morris,
Deputy Director, Civil Enforcement Operations, Antitrust Division.

[FR Doc. 2023-06190 Filed 3-24-23; 8:45 am]

BILLING CODE 4410-11-P